DEPARTMENT OF COMMERCE

Patent and Trademark Office

Trademark Petitions

ACTION: New collection; comment request.

SUMMARY: The United States Patent and Trademark Office (USPTO), as part of its continuing effort to reduce paperwork and respondent burden, invites the general public and other Federal agencies to take this opportunity to comment on this new information collection, as required by the Paperwork Reduction Act of 1955, Public Law 104-13 (44 U.S.C. 3506(c)(2)(A)).

DATES: Written comments must be submitted on or before July 17, 2009.

ADDRESSES: You may submit comments by any of the following methods:

• E-mail: Susan.Fawcett@uspto.gov. Include “0651-00XX Trademark Petitions collection comment” in the subject line of the message.

• Fax: 571-273-0112, marked to the attention of Susan K. Fawcett.

• Mail: Susan K. Fawcett, Records Officer, Office of the Chief Information Officer, Administrative Management Group, United States Patent and Trademark Office, P.O. Box 1450, Alexandria, VA 22313-1450.

• Federal Rulemaking Portal: http://ww.regulations.gov.

FOR FURTHER INFORMATION CONTACT: Requests for additional information should be directed to the attention of Janis Long, Attorney Advisor, Office of the Commissioner for Trademarks, United States Patent and Trademark Office, P.O. Box 1450, Alexandria, VA 22313-1450, by telephone at 571-272-9573, or by e-mail at Janis.Long@uspto.gov.

SUPPLEMENTARY INFORMATION

I. Abstract

The United States Patent and Trademark Office (USPTO) administers the Trademark Act, 15 U.S.C. 1051 et seq. which provides for the Federal registration of trademarks, service marks, collective trademarks and service marks, collective membership marks, and certification marks. Individuals and businesses that use or intend to use such marks in commerce may file an application to register their marks with the USPTO. Individuals and businesses may also submit various communications to the USPTO, including letters of protest and requests to make special.

A letter of protest is an informal procedure whereby third parties who object to the registration of a mark in a pending application may submit evidence relevant to the registrability of the mark to the attention of the USPTO. A letter of protest should include an explanation of which application is being protested and relevant evidence to support the protest. A request to make special may be submitted where an applicant's prior registration was cancelled due to the inadvertent failure to file a post registration maintenance document and should include an explanation of why special action is appropriate. The USPTO is proposing to include these two items in the inventory at this time because of a new method of submission that would standardize some formatting involving the electronic collection of this information. Both of these items are covered under 15 U.S.C. 1051.

II. Method of Collection

In order to provide filers with many of the benefits of electronic filing for a submission where a true electronic form does not currently exist within the Trademark Electronic Application System (TEAS), the USPTO is creating a new form of submission in a “global” format. This new method of submission will allow the user to identify the type of document being filed by selecting from a drop-down list and then uploading a document in either the JPG or PDF format. Applicants may also submit the information in paper form by mail, fax or hand delivery.

III. Data

OMB Number: 0651-00xx.

Form Number: None.

Type of Review: New information collection.

Affected Public: Primarily business or other for-profit organizations.

Estimated Number of Respondents: 953 per year.

Estimated Time per Response: The USPTO estimates that it will take approximately 30 minutes (0.50 hours) to 1 hour to gather the necessary information, create the document, and submit the completed request, depending on whether the information is submitted electronically or on paper.

Estimated Total Annual Respondent Burden Hours: 862 hours per year.

Estimated Total Annual Respondent Cost Burden: $267,220. The USPTO believes that associate attorneys will complete the information in this collection. The professional hourly rate for associate attorneys in private firms is $310. This is a fully-loaded hourly rate. Therefore, the USPTO estimates that the respondent cost burden for this collection will be approximately $267,220 per year.

Item | Estimated time for response | Estimated annual responses | Estimated annual burden hours
TEAS Letter of Protest | 50 minutes | 463 | 384
Letter of Protest | 1 hour | 462 | 462
TEAS Request to Make Special | 30 minutes | 14 | 7
Request to Make Special | 40 minutes | 14 | 9
Total |  | 953 | 862

Estimated Total Annual (Non-hour) Respondent Cost Burden: $209. There are no capital start-up, operation, maintenance or record keeping costs, nor are there filing fees associated with this information collection.

Customers incur postage costs when submitting non-electronic information to the USPTO by mail through the United States Postal Service. The USPTO estimates that the majority of submissions for these paper forms are made via first class mail at a cost of 44 cents per submission. Therefore, the total estimated postage cost for this collection is $209 (476 responses x $0.44).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized or included in the request for OMB approval of this information collection; they will also become a matter of public record.

Susan K. Fawcett,
Records Officer, USPTO, Office of the Chief Information Officer, Administrative Management Group.

[FR Doc. E9-11534 Filed 5-15-09; 8:45 am]

BILLING CODE 3510-16-P